DEPARTMENT OF LABOR

Employment and Training Administration

[TA-W-65,348]

Small Parts Manufacturing, Portland, OR; Notice of Termination of Investigation

Pursuant to Section 221 of the Trade Act of 1974, as amended, an investigation was initiated on February 23, 2009 in response to a petition filed on behalf of workers of Small Parts Manufacturing, Portland, Oregon.

The Department has determined that the petition is invalid. The petitioner is a worker and not a state agency representative as indicated on the petition. A petition filed by workers must be completed by three workers.

Accordingly, this petition investigation is terminated.

Signed at Washington, DC, this 26th day of February 2009.
Linda G. Poole,
Certifying Officer, Division of Trade Adjustment Assistance.

[FR Doc. E9-5190 Filed 3-10-09; 8:45 am]

BILLING CODE 4510-FN-P